DEPARTMENT OF COMMERCE

International Trade Administration

[A-570-847]

Persulfates From the People's Republic of China: Notice of Initiation of Changed Circumstances Review

AGENCY: Import Administration, International Trade Administration, Department of Commerce.

ACTION: Notice of initiation of changed circumstances review.

SUMMARY: In accordance with 19 CFR 351.216(b), FMC Corporation, a U.S. producer of persulfates and an interested party in this proceeding, filed a request for a changed circumstances review of the antidumping duty order on persulfates from the People's Republic of China, as described below. In response to this request, the Department of Commerce is initiating a changed circumstances review of the antidumping duty order on persulfates from the People's Republic of China.

EFFECTIVE DATE: February 28, 2003.

FOR FURTHER INFORMATION CONTACT: Mike Strollo or Robin Moore, Office 2, AD/CVD Enforcement Group I, Import Administration, International Trade Administration, U.S. Department of Commerce, 14th Street and Constitution Avenue, NW., Washington, DC 20230; telephone: (202) 482-0629 or (202) 482-3773, respectively.

SUPPLEMENTARY INFORMATION: On July 7, 1997, the Department published in the Federal Register the antidumping duty order on persulfates from the People's Republic of China (PRC). See Notice of Antidumping Duty Order and Amended Final Determination of Sales at Less Than Fair Value: Persulfates From the People's Republic of China, 62 FR 36259 (July 7, 1997). In addition, on August 27, 2002, the Department initiated an administrative review of the antidumping duty order on persulfates covering one PRC exporter, Shanghai Ai Jian Import and Export Corporation (Ai Jian), and its wholly-owned subsidiary, Shanghai Ai Jian Reagent Factory (AJ Works). See Initiation of Antidumping and Countervailing Duty Administrative Reviews and Requests for Revocation in Part, 67 FR 55000 (Aug. 27, 2002). As part of this review, the Department is considering whether it is appropriate to revoke the antidumping order with respect to Ai Jian and AJ Works.

On January 7, 2003, FMC Corporation (FMC), a U.S. producer of persulfates, notified the Department that Degussa AG (Degussa) had purchased seventy percent of AJ Works and that, as a result, the name of AJ Works changed to Degussa-AJ (Shanghai) Initiators Co., Ltd. (Degussa-AJ). FMC requested that the Department initiate a changed circumstances review to determine whether Degussa-AJ is, in fact, the successor-in-interest to AJ Works, and hence, whether it should be considered the same entity with regards to the pending revocation request. In addition, FMC requested that the Department issue the preliminary results of the changed circumstances review in conjunction with the notice of initiation, in accordance with 19 CFR 351.221(c)(3)(ii).

Scope of Review

The products covered by this review are persulfates, including ammonium, potassium, and sodium persulfates. The chemical formula for these persulfates are, respectively, (NH4)2S2O8, K2S2O8, and Na2S2O8. Potassium persulfates are currently classifiable under subheading 2833.40.10 of the Harmonized Tariff Schedule of the United States (HTSUS). Sodium persulfates are classifiable under HTSUS subheading 2833.40.20. Ammonium and other persulfates are classifiable under HTSUS subheadings 2833.40.50 and 2833.40.60. Although the HTSUS subheadings are provided for convenience and customs purposes, the written description of the scope of this review is dispositive.

Initiation of Changed Circumstances Review

Pursuant to section 751(b)(1) of the Tariff Act of 1930, as amended (the Act), the Department will conduct a changed circumstances review upon receipt of information concerning, or a request from an interested party for a review of, an antidumping duty order which shows changed circumstances sufficient to warrant a review of the order. The information submitted by FMC shows changed circumstances sufficient to warrant a review. See 19 CFR 351.216(c).

Concerning FMC's request that the Department issue the preliminary results of the changed circumstances review in conjunction with the notice of initiation, FMC has not provided sufficient evidence to support a preliminary finding. FMC requested this changed circumstances review for the purpose of determining whether Degussa-AJ is the successor-in-interest to AJ Works. In making successor-in-interest determinations, the Department examines several factors including, but not limited to, changes in: (1) Management; (2) production facilities; (3) supplier relationships; and (4) customer base. See, e.g., Brass Sheet and Strip from Canada; Final Results of Antidumping Duty Administrative Review, 57 FR 20460, 20461 (May 13, 1992). While no single factor, or combination of factors, will necessarily be dispositive, the Department will generally consider the new company to be the successor to its predecessor company if the resulting operations are essentially the same as the predecessor company. See, e.g., id. and Industrial Phosphoric Acid from Israel; Final Results of Changed Circumstances Review, 59 FR 6944, 6945 (Feb. 14, 1994). Thus, if the evidence demonstrates that, with respect to the production and sale of the subject merchandise, the new company does not operate as the same business entity as its predecessor, the Department will not treat the new company as the successor-in-interest to the predecessor. In this instance, while FMC has stated for the record that the AJ Works' owners, management structure, supplier relationships and customer base have changed, it has not provided evidence supporting these statements.

We note that the circumstances here involve a change in ownership of a producer in a nonmarket economy country. Consequently, the analysis applied and the relevant facts may differ from successor-in-interest determinations in other situations. Nonetheless, we find that a changed circumstances review is warranted, and we will examine such questions in the course of this review.

Therefore, in accordance with section 751(b)(1) of the Act and sections 19 CFR 351.216(b) and 351.221(b)(1), we are initiating a changed circumstances administrative review.

Interested parties may submit comments for consideration in the Department's preliminary results not later than May 1, 2003. Responses to those comments may be submitted not later than 10 days following submission of the comments. All written comments must be submitted in accordance with 19 CFR 351.303, and must be served on all interested parties on the Department's service list in accordance with 19 CFR 351.303.

The Department will publish in the Federal Register a notice of preliminary results of changed circumstances review, in accordance with 19 CFR 351.221(c)(3)(i), which will set forth the factual and legal conclusions upon which our preliminary results are based, and a description of any action proposed based on those results. The Department will also issue its final results of review within 270 days after the date on which the changed circumstances review is initiated, in accordance with 19 CFR 351.216(e), and will publish these results in the Federal Register.

While the changed circumstances review is under way, the current requirement for a cash deposit of estimated antidumping duties on all subject merchandise, including the merchandise that is the subject of this changed circumstances review, will continue unless and until it is modified pursuant to the final results of this changed circumstances review or the ongoing 2001-2002 administrative review.

This notice is in accordance with sections 751(b)(1) of the Act and 19 CFR 351.216 and 351.222.

Dated: February 21, 2003.
Faryar Shirzad,
Assistant Secretary for Import Administration.

[FR Doc. 03-4792 Filed 2-27-03; 8:45 am]

BILLING CODE 3510-DS-P